DEPARTMENT OF EDUCATION

Experimental and Innovative Training

AGENCY: Office of Special Education and Rehabilitative Services, Department of Education.

ACTION: Notice of final priority.

SUMMARY: The Assistant Secretary for the Office of Special Education and Rehabilitative Services announces a priority under the Experimental and Innovative Training program. The Assistant Secretary may use this priority for competitions in fiscal year (FY) 2003 and in later years.

We intend for the grantee to develop and disseminate rehabilitation training curriculum modules that can be incorporated into rehabilitation training programs. The purpose of the curriculum modules is to increase student contact with individuals with disabilities and to enhance student understanding of disability culture and counselor skills that support the empowerment of vocational rehabilitation (VR) customers with disabilities.

EFFECTIVE DATE: This priority is effective March 28, 2003.

FOR FURTHER INFORMATION CONTACT: Edward R. Smith, U.S. Department of Education, 400 Maryland Avenue, SW., room 3318, Switzer Building, Washington, DC 20202-2649. Telephone: (202) 205-0136 or via Internet: Edward.Smith@ed.gov.

If you use a telecommunications device for the deaf (TDD), you may call the TDD number at (202) 205-8133.

Individuals with disabilities may obtain this document in an alternative format (e.g., Braille, large print, audiotape, or computer diskette) on request to the contact person listed under FOR FURTHER INFORMATION CONTACT.

SUPPLEMENTARY INFORMATION: The Experimental and Innovative Training program provides financial assistance—

(1) To develop new types of training programs for rehabilitation personnel and to demonstrate the effectiveness of those new types of training programs for rehabilitation personnel in providing rehabilitation services to individuals with disabilities; and

(2) To develop new and improved methods of training rehabilitation personnel so that there may be a more effective delivery of rehabilitation services by State and other rehabilitation agencies.

This priority will increase the knowledge and skills of rehabilitation personnel in disability culture and customer empowerment.

We published a notice of proposed priority for this program in the Federal Register on October 4, 2002 (67 FR 62308). The notice of proposed priority included a discussion of the significant issues and analysis used in the determination of this priority.

There are no differences between the notice of proposed priority and this notice of final priority.

Analysis of Comments and Changes

In response to our invitation in the notice of proposed priority, six parties submitted comments on the proposed priority. An analysis of the comments and of any changes in the priority since publication of the notice of proposed priority follows.

Generally, we do not address technical and other minor changes—and suggested changes the law does not authorize us to make under the applicable statutory authority.

Comment: One commenter recommended that applicants with experience in regional cooperative relationships with other agencies be given a preference when we award grants.

Discussion: We agree that experience in regional cooperation with other agencies is important, but we do not believe it should be required of all projects or be given greater emphasis than other models. The peer review process will determine the merits of each proposal.

Change: None.

Comment: One commenter recommended that the priority address people with disabilities from minority communities.

Discussion: Section 21(c) of the Rehabilitation Act of 1973, as amended, requires all projects funded under this priority to address the needs of ethnic and racial minorities with disabilities.

Change: None.

Comment: One commenter recommended that the priority allow for the training of both students and VR counselors.

Discussion: VR counselors as well as other students may enroll in rehabilitation training programs. This priority does not preclude the commenter's recommendation.

Change: None.

Comments: Two commenters recommended that the priority be amended to include the training of non-degree personnel and consumers with disabilities.

Discussion: The training of consumers is inconsistent with the statutory and regulatory authority of the Experimental and Innovative Training program. While this suggestion has merit for non-degree personnel, the focus of this priority is on the training of students who will become qualified rehabilitation counselors in the vocational rehabilitation system.

Change: None.

Comment: One commenter recommended that the curricula modules include an introduction to advocacy skills.

Discussion: This priority does not preclude the commenter's recommendation. The peer review process will determine the merits of such a proposal.

Change: None.

Comment: One commenter recommended that the priority require experiential activities that focus on the counseling needs of particular disability groups and specific areas within rehabilitation counseling, such as multicultural competency.

Discussion: While the comment has merit, we do not believe it should be required for all applicants. The peer review process will determine the merits of such a proposal.

Change: None.

Comment: One commenter recommended that applicants be restricted to entities that have demonstrated long-term successful collaborations with disability advocates and self-help groups.

Discussion: The program authority establishes eligible applicants for this program. We have no authority to further restrict applicant eligibility.

Change: None.

Note: This notice does not solicit applications. In any year in which we choose to use this priority, we invite applications through a notice in the Federal Register. When inviting applications we designate the priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Priority

Curriculum Modules: Experiential Activities To Enhance Rehabilitation Empowerment

For the purposes of this priority, empowerment is defined as individuals having the information, education, training, confidence, and high expectations needed to make effective employment and life-related decisions.

This priority supports projects that provide experiential activities that increase the amount of personal contact and experience of VR students with individuals with disabilities in non-counseling settings. This priority is intended to support the design, piloting, evaluation, and dissemination of course modules to be incorporated into rehabilitation training program curricula that enhance student understanding of the culture of individuals with disabilities and of the behaviors that enhance empowerment from the perspective of individuals with disabilities.

Projects funded under this priority must incorporate experiential activities in which students interact directly with persons with disabilities in situations other than traditional and hierarchical student counselor to consumer relationships.

Projects must include an evaluation of the impact of the course module or modules and a dissemination plan to be carried out in the last year of the project period.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR parts 385 and 387.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

(Catalog of Federal Domestic Assistance Number 84.263A Experimental and Innovative Training)
Program Authority: 29 U.S.C. 772.
Dated: February 20, 2003.
Robert H. Pasternack,
Assistant Secretary for Special Education and Rehabilitative Services.

[FR Doc. 03-4549 Filed 2-25-03; 8:45 am]

BILLING CODE 4000-01-U